Title 3—

The President

Proclamation 10754 of May 10, 2024

National Defense Transportation Day and National Transportation Week, 2024

By the President of the United States of America

A Proclamation

During National Defense Transportation Day and National Transportation Week, we recommit to embarking on an infrastructure decade. Because the stronger and safer our infrastructure is, the stronger and safer we are as a Nation.

America used to have the best infrastructure in the world. But for years, we stopped investing in our infrastructure and our workers. We embraced trickle-down economics, shipping jobs overseas to the cheapest places in the world for labor and importing low-quality products back home. It never worked. Trickle-down economics hollowed out the middle class, left America's workers behind, and kept our Nation's infrastructure stuck in the past.

That is why I signed the Bipartisan Infrastructure Law—a once-in-a-generation investment in American infrastructure and the largest investment in public transit in history. Over 51,000 new projects are transforming our communities—including modernizing our rail infrastructure and ports, fixing our roads and bridges, bringing public transportation to more communities, providing high-speed internet all over America, and more. These investments will make our Nation safer—from decreasing traffic and crashes to facilitating quicker responses from emergency responders when every minute counts. It also means goods will be shipped more quickly and commerce will flow more freely, ensuring our military, business, and all Americans have what they need on demand. We are doing all this work with American products and American workers. To date, the economy has created over 15 million jobs since the beginning of my Administration, including nearly 800,000 manufacturing jobs.

I also signed the CHIPS and Science Act to bring the manufacturing of semiconductors back home. Semiconductors are those tiny chips that power everything from automobiles and smartphones to satellites and weapons systems—and when I came into office, our country was only producing 10 percent of them, leaving our markets and national security vulnerable. I was determined to turn that around, and thanks to my Administration's investment in semiconductors, private companies have invested over $395 billion to bring semiconductor manufacturing back to America, creating tens of thousands of jobs across the country.

On top of this, I signed the Inflation Reduction Act—the most significant climate investment in the history of the world—to build America's clean energy future here at home. We are building a national network of electric vehicle chargers while providing tax credits for consumers to buy electric cars. So far, we have quadrupled the number of electric vehicles sold, and 11,000 dealerships have now signed up to sell more. We are also modernizing our Nation's electric grid so that Americans have access to power even when extreme weather hits. Like I have often said, when I think of climate, I think of jobs—and these investments in our Nation's clean energy market are providing Americans with good-paying jobs in their hometowns. At the same time, we are working with industry partners to implement the Biden Trucking Action Plan, which helps keep our Nation's truck drivers safe.

My Administration is working to build an America for all Americans, and we are making sure that these new infrastructure projects benefit our communities. When our country began building highways, they would cut straight through communities, especially ones with Black or Brown residents, dividing and destroying entire neighborhoods. To address this harmful legacy and unify these communities once again, my Administration launched the Reconnecting Communities Pilot Program—the first-ever Federal initiative to cap highways and create new green spaces that connect neighborhoods. We are leaving no one behind, opening new doors of opportunity, and making sure every community is treated with the dignity and respect they deserve.

Meanwhile, we are making sure that as we rebuild America, we are making our infrastructure more resilient to threats like extreme weather and cyber-attacks—upfront and by design through new policy like the National Security Memorandum on Critical Infrastructure Security and Resilience (NSM-22). Under the Bipartisan Infrastructure Law alone, we have delivered $50 billion for infrastructure resilience—including nearly $9 billion to make our transportation system stronger—which will help keep Americans safe and protect our national security.

In thousands of cities and towns across America, our workers are writing the greatest comeback story ever told. They are getting shovels in the ground and operating the cranes in the sky and are hard at work rebuilding our Nation's infrastructure. All the while, they are bringing pride back to our communities and our Nation because they are proving we can still get big things done when we work together. That is what America is all about—building a future of possibilities, investing in all of America and in all Americans, and making sure everyone has a fair shot.

In recognition of the ongoing contributions of our Nation's transportation system and in honor of the devoted professionals who work to sustain its tradition of excellence, the United States Congress has requested, by joint resolution approved May 16, 1957, as amended (36 U.S.C. 120), that the President designate the third Friday in May of each year as “National Defense Transportation Day” and, by joint resolution approved May 14, 1962 (36 U.S.C. 133), that the week in which that Friday falls be designated as “National Transportation Week.”

NOW, THEREFORE, I, JOSEPH R. BIDEN JR., President of the United States of America, do hereby proclaim Friday, May 17, 2024, as National Defense Transportation Day and May 12 through May 18, 2024, as National Transportation Week. I urge all Americans to observe these occasions with appropriate ceremonies, programs, and activities as we show our appreciation to those who build and operate our Nation's transportation systems.

IN WITNESS WHEREOF, I have hereunto set my hand this tenth day of May, in the year of our Lord two thousand twenty-four, and of the Independence of the United States of America the two hundred and forty-eighth.

[FR Doc. 2024-10757

Filed 5-14-24; 8:45 am]

Billing code 3395-F4-P